DEPARTMENT OF TRANSPORTATION

Federal Aviation Administration

14 CFR Part 23

Miscellaneous Markings and Placards

AGENCY: Federal Aviation Administration (FAA), DOT.

ACTION: Final rule; technical amendment.

SUMMARY: This action corrects a typographical error that appeared in a final rule, which the FAA published in the Federal Register. In that final rule, the FAA inadvertently changed a word. The intent of this action is to correct the error in the regulation to ensure the requirement is clear and accurate.

DATES: Effective Dates: Effective on June 20, 2008.

FOR FURTHER INFORMATION CONTACT: Robert Stegeman, Regulations and Policy, ACE-111, Federal Aviation Administration, 901 Locust Street, Kansas City, MO 64106; telephone (816) 329-4140; e-mail robert.stegeman@faa.gov.

SUPPLEMENTARY INFORMATION: On August 6, 1993, the FAA published in the Federal Register (58 FR 42166) a final rule that, among other changes, amended § 23.1557 by revising § 23.1557(c)(1). In revising § 23.1557(c)(1), the word “filler” was inadvertently changed to “filter.” This document corrects § 23.1557(c)(1) to reflect the correct word “filler.” This correction will not impose any additional requirements.

Technical Amendment

This technical amendment corrects a typographical error that appears in 14 CFR 23.1557(c)(1).

Justification for Immediate Adoption

Because this action corrects merely a typographical error, the FAA finds that notice and public comment under 5 U.S.C. 553(b) is unnecessary. For the same reason, the FAA finds that good cause exists under 5 U.S.C. 553(d) for making this rule effective upon publication.

List of Subjects in 14 CFR Part 23

Aircraft, Aviation safety, Signs and symbols.

The Amendment

Accordingly, Title 14 of the Code of Federal Regulations (CFR) part 23 is amended as follows:

PART 23-AIRWORTHINESS STANDARDS: NORMAL, UTILITY, ACROBATIC, AND COMMUTER CATEGORY AIRPLANES

1. The authority citation for part 23 continues to read as follows:

Authority: 49 U.S.C. 106(g), 40013, 44701, 44702, 44704.

2. Amend § 23.1557 by revising § 23.1557(c)(1) introductory text to read as follows:

§ 23.1557 Miscellaneous markings and placards.

* * * * *

(c) * * *

(1) Fuel filler openings must be marked at or near the filler cover with—

* * * * *

Issued in Washington, DC on June 16, 2008.
Pamela Hamilton-Powell,
Director, Office of Rulemaking.

[FR Doc. E8-13900 Filed 6-19-08; 8:45 am]

BILLING CODE 4910-13-P